DEPARTMENT OF JUSTICE

Office of Justice Programs

[OJP (OJJDP) Docket No. 1532]

Meeting of the Federal Advisory Committee on Juvenile Justice

AGENCY: Office of Juvenile Justice and Delinquency Prevention, Office of Justice Programs, Justice.

ACTION: Notice of Meeting.

SUMMARY: The Office of Juvenile Justice and Delinquency Prevention (OJJDP) announces the Fall meeting of the Federal Advisory Committee on Juvenile Justice (FACJJ), to be held in Washington, DC December 2 and 3, 2010.

DATES AND LOCATIONS: The meeting will take place in the 3rd floor main conference room of the Office of Justice Programs, 810 Seventh Street, NW., Washington, DC 20531. The meeting dates and times are as follows: Thursday, December 2, 2010 8 a.m. to 5:15 p.m. and Friday, December 3, 2010 8 a.m. to 9:30 a.m.

FOR FURTHER INFORMATION CONTACT: Robin Delany-Shabazz, Designated Federal Official, OJJDP, Robin.Delany-Shabazz@usdoj.gov, or 202-307-9963. [Note: This is not a toll-free number.]

SUPPLEMENTARY INFORMATION: The Federal Advisory Committee on Juvenile Justice (FACJJ), established pursuant to Section 3(2)A of the Federal Advisory Committee Act (5 U.S.C. App. 2), will meet to carry out its advisory functions under Section 223(f)(2)(C-E) of the Juvenile Justice and Delinquency Prevention Act of 2002. The FACJJ is composed of one representative from each state and territory. FACJJ duties include: reviewing Federal policies regarding juvenile justice and delinquency prevention; advising the OJJDP Administrator with respect to particular functions and aspects of OJJDP; and advising the President and Congress with regard to State perspectives on the operation of OJJDP and Federal legislation pertaining to juvenile justice and delinquency prevention. More information may be found at http://www.facjj.org.

Meeting Agenda

Thursday, December 2, 2010—8 a.m. to 5:15 p.m.

The agenda will include: (a) An update from the Administrator; (b) presentation from and discussion with staff of the Office of Sex Offender Sentencing, Monitoring, Apprehending, Registering, and Tracking on the guidelines to implement the Sexual Offender Registration and Notification Act as it pertains to youth sex offenders; (c) discussion of plans for a restructured FACJJ and options for selecting regional SAG representation; (d) discussion of compliance-related issues; (e) review of planned presentation to the Coordinating Council; and (f) roundtable discussions focused on sharing innovative practices and SAG-to-SAG consultation on local matters with fellow members.

Friday, December 3, 2010—8 a.m. to 9:30 a.m.

The agenda will include (a) a recap of the prior day's discussions; (b) any remaining business; (c) presentation of member certificates; and (d) adjournment of the meeting.

For security purposes, members of the FACJJ and of the public who wish to attend, must pre-register online at http://www.facjj.org by Monday, November 29, 2010. Should problems arise with web registration, call Daryel Dunston at 240-221-4343. [Note: These are not toll-free telephone numbers.] Photo identification will be required. Additional identification documents may be required. Space is limited.

Written Comments

Interested parties may submit written comments by Monday, November 29, 2010, to Robin Delany-Shabazz, Designated Federal Official for the Federal Advisory Committee on Juvenile Justice, OJJDP, at Robin.Delany-Shabazz@usdoj.gov. Alternatively, fax your comments to 202-307-2819 and call Joyce Mosso Stokes at 202-305-4445 to ensure its receipt. [Note: These are not toll-free numbers.] No oral presentations will be permitted. Written questions and comments from attendees may be invited.

Dated: November 10, 2010.
Marilyn Roberts,
Deputy Administrator, Office of Juvenile Justice and Delinquency Prevention.

[FR Doc. 2010-28959 Filed 11-16-10; 8:45 am]

BILLING CODE 4410-18-P